DEPARTMENT OF COMMERCE

National Oceanic and Atmospheric Administration

[RTID 0648-XC632]

South Atlantic Fishery Management Council; Public Hearings

AGENCY: National Marine Fisheries Service (NMFS), National Oceanic and Atmospheric Administration (NOAA), Commerce.

ACTION: Notice of public hearings.

SUMMARY: The South Atlantic Fishery Management Council (Council) will hold six in-person public hearings and one public hearing via webinar pertaining to Regulatory Amendment 35 to the Fishery Management Plan (FMP) for the Snapper Grouper Fishery of the South Atlantic Region. This framework amendment considers revisions to South Atlantic red snapper catch levels following the most recent stock assessment (SEDAR 73) and fishing gear changes intended to reduce dead discards throughout the snapper grouper fishery.

DATES: The in-person public hearings will be held January 17, 18, 19, 24, 25, and 26, 2023. The webinar public hearing will be held January 31, 2023. All hearings will begin at 6 p.m., EST.

ADDRESSES: See SUPPLEMENTARY INFORMATION for specific locations.

FOR FURTHER INFORMATION CONTACT: Kim Iverson, Public Information Officer, SAFMC; phone: (843) 571-4366 or toll free: (866) SAFMC-10; fax: (843) 769-4520; email: kim.iverson@safmc.net.

SUPPLEMENTARY INFORMATION:

Meeting addresses:

January 17, 2023—Richmond Hill City Center, 520 Cedar Street, Richmond Hill, GA 31324; Phone: (912) 445-0043;

January 18, 2023—Town & Country Inn and Suites, 2008 Savannah Hwy, Charleston, SC 29407; Phone: (843) 571-1000;

January 19, 2023—The Crystal Coast Civic Center, 3505 Arendell Street, Morehead City, NC 28557; Phone: (252) 247-3883;

January 24, 2023—Hyatt Place Jacksonville St. Johns Town Center, 4742 Town Center Parkway, Jacksonville, FL 32246; Phone: (904) 641-7200;

January 25, 2023—City of Cocoa Civic Center, 430 Delannoy Ave, Cocoa Beach, FL 32922; Phone: (321) 639-3500;

January 26, 2023—Holiday Inn Key Largo, 99701 Overseas Highway, Key Largo, FL 33037 Phone: (305) 451-2121; and

January 31, 2023—This hearing will be held via webinar. Registration is required. Information, including a link to the webinar registration will be posted on the Council's website at: https://safmc.net/public-hearings-and-scoping/ as it becomes available.

Public hearing documents, an online public comment form, and other materials will be posted to the Council's website at https://safmc.net/public-hearings-and-scoping/ as they become available. Written comments should be addressed to John Carmichael, Executive Director, SAFMC, 4055 Faber Place Drive, Suite 201, N. Charleston, SC 29405. Written comments must be received by February 3, 2023, by 5 p.m. During the hearings Council staff will provide an overview of actions being considered in the amendment. Staff will answer clarifying questions on the presented information and the proposed actions. Following the presentation and questions, the public will have the opportunity to provide comments on the amendment.

Regulatory Amendment 35 to the Snapper Grouper FMP

Regulatory Amendment 35 considers revisions to South Atlantic red snapper catch levels following the most recent stock assessment (SEDAR 73) and gear changes intended to reduce dead discards throughout the snapper grouper fishery. SEDAR 73 indicated the stock is overfished and overfishing is occurring, primarily due to high numbers of recreational dead discards of red snapper. The Council is required to revise the acceptable biological catch to be based on the Scientific and Statistical Committee's (SSC) most recent recommendations, which are based on SEDAR 73.

The Council is also required to end overfishing of red snapper. Given that the vast majority of red snapper fishing-related mortality is attributed to recreational dead discards and given the multi-species nature of the South Atlantic snapper grouper fishery, the Council is considering a prohibition of the use of more than one separate hook per line while recreationally fishing for snapper grouper species with natural baits. This gear change would be expected to reduce recreational catch and discarding of snapper grouper species overall, thus reducing dead discards and addressing overfishing of red snapper. The actions considered in this amendment in addition to increased outreach and education efforts for best fishing practices, and other longer-term management actions currently under development, are collectively expected to end overfishing of red snapper.

Special Accommodations

These hearings are physically accessible to people with disabilities. Requests for auxiliary aids should be directed to the Council office (see ADDRESSES) 5 days prior to the hearing.

Note: The times and sequence specified in this agenda are subject to change.

Authority: 16 U.S.C. 1801 et seq.

Dated: December 27, 2022.
Rey Israel Marquez,
Acting Deputy Director, Office of Sustainable Fisheries, National Marine Fisheries Service.

[FR Doc. 2022-28478 Filed 12-30-22; 8:45 am]

BILLING CODE 3510-22-P